DEPARTMENT OF HEALTH AND HUMAN SERVICES

Administration for Children and Families

[Office of Management and Budget #: 0970-0576]

Submission for Office of Management and Budget Review; Evaluation of the Center for Legal and Judicial Innovation and Advancement (CLJIA) (Previously Evaluation of the Child Welfare Capacity Building Collaborative)

AGENCY: Children's Bureau, Administration for Children and Families, U.S. Department of Health and Human Services.

ACTION: Request for public comments.

SUMMARY: This collection relates to survey instruments to be administered in conjunction with technical assistance (TA) delivered to legal and judicial staff who participate in strategic planning workshops and attorneys and judicial trainings with a Children's Bureau (CB) TA provider. This is a revision and extension to Office of Management and Budget (OMB) #0970-0576) to remove instruments that are no longer in use, revise the title of the collection, and to revise the name of the TA provider in the instruments still in use.

DATES: Comments due July 14, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: This is a revision to what was originally related to a larger project, the Evaluation of the Child Welfare Capacity Building Collaborative, focused on studying outcomes of TA to child welfare agencies and courts, for both states and tribes. This request will remove most of the prior instruments approved for this project under OMB #: 0970-0576. The larger project was successful in getting information about the broad array of TA. It also showed therein that there was more variation among the professional audiences being served than anticipated and thus CB had opted to pursue evaluation individually by Center going forward. There were larger scope and approach changes for the other prior Centers and those evaluations will need to be separately revisited.

Three instruments will continue to be used. These are used with legal and judicial participants in TA. Data collected through these three instruments has and will continue to be used by the CLJIA and CB to improve the development and delivery of CLJIA services, specifically the Academies and Workshops, and assess the quality, satisfaction with services, and impact on their intended outcomes, including increased knowledge and skills. Data collection includes online and paper-based surveys and assessments administered to participants in Academies and Workshops.

There are no significant changes to the instruments. The name of the TA provider was changed and that has been updated.

Respondents: Child welfare and court professionals.

Annual Burden Estimates
Instrument | Total number of respondents | Total number of responses per respondent | Average burden hours per response | Total burden hours | Annual burden hours
Workshop Feedback Survey | 480 | 1 | 0.07 | 46.1 | 15
Academy Feedback Survey | 1,050 | 1 | 0.07 | 73.5 | 25
Pre/Post Academy Assessment | 1,050 | 2 | 0.22 | 462 | 154
Estimated Total Annual Burden Hours |  |  |  |  | 194

Authority: 42 U.S.C. 5106(b)(5); 42 U.S.C. 5113(b)(4); 42 U.S.C. 629h.

Mary C. Jones,
ACF/OPRE Certifying Officer.

[FR Doc. 2025-10834 Filed 6-12-25; 8:45 am]

BILLING CODE 4184-29-P